INTERNATIONAL TRADE COMMISSION

[Investigation No. 337-TA-958]

Certain Automated Teller Machines and Point of Sale Devices and Associated Software Thereof; Notice of Commission Determination Not To Review an Initial Determination Granting Complainant's Motion To Amend the Complaint and the Notice of Investigation

AGENCY: U.S. International Trade Commission.

ACTION: Notice.

SUMMARY: Notice is hereby given that the U.S. International Trade Commission has determined not to review an initial determination (“ID”) (Order No. 9) issued by the presiding administrative law judge (“ALJ”), granting the complainant's unopposed motion to amend the complaint and notice of investigation to change the corporate name of the complainant.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 9, 2015, based on a complaint filed by Global Cash Access, Inc. (“Complainant”). 80 FR 32605-06. The complaint alleges violations of section 337 of the Tariff Act of 1930, as amended, 19 U.S.C. 1337 (“section 337”), in the importation into the United States, the sale for importation, and the sale within the United States after importation of certain automated teller machines, point of sale devices, and associated software that infringes claims 1-3, 5-7, and 9 of U.S. Patent No. 6,081,792. Id. The Commission's notice of investigation named as respondents NRT Technology Corp. of Toronto, Canada and NRT Technologies, Inc., of Las Vegas, Nevada. Id. at 32606. The Office of Unfair Import Investigations (OUII) is a party to the investigation. Id.

On August 26, 2015, Complainant filed an unopposed motion to amend the complaint and the notice of investigation to change the name of Complainant to Everi Payments Inc. to reflect a corporate name change. Complainant asserts that good cause exists for the amendments.

On September 15, 2015, the ALJ issued the subject ID, granting Complainant's motion to amend the complaint and the notice of investigation. The ALJ found good cause for granting the motion because it is early in the investigation and the amendments will not affect discovery or any issue to be litigated. No petitions for review of the ID were filed.

The Commission has determined not to review the subject ID.

The authority for the Commission's determination is contained in section 337 of the Tariff Act of 1930, as amended (19 U.S.C. 1337), and in Part 210 of the Commission's Rules of Practice and Procedure (19 CFR part 210).

By order of the Commission.
Issued: October 9, 2015.
Lisa R. Barton,
Secretary to the Commission.

[FR Doc. 2015-26307 Filed 10-15-15; 8:45 am]

BILLING CODE 7020-02-P